DEPARTMENT OF COMMERCE

National Oceanic and Atmospheric Administration

50 CFR Part 660

[Docket No. 170831849-8404-01]

RIN 0648-XG563

Fisheries Off West Coast States; Modifications of the West Coast Recreational and Commercial Salmon Fisheries; Inseason Actions #12 through #37

AGENCY: National Marine Fisheries Service (NMFS), National Oceanic and Atmospheric Administration (NOAA), Commerce.

ACTION: Modification of fishing seasons.

SUMMARY: NMFS announces 26 inseason actions in the ocean salmon fisheries. These inseason actions modified the commercial and recreational salmon fisheries in the area from the U.S./Canada border to the U.S./Mexico border.

DATES: The effective dates for the inseason actions are set out in this document under the heading Inseason Actions.

FOR FURTHER INFORMATION CONTACT: Peggy Mundy at 206-526-4323.

SUPPLEMENTARY INFORMATION:

Background

In the 2018 annual management measures for ocean salmon fisheries (83 FR 19005, May 1, 2018), NMFS announced management measures for the commercial and recreational fisheries in the area from the U.S./Canada border to the U.S./Mexico border, beginning May 1, 2018, through April 30, 2019. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: California Department of Fish and Wildlife (CDFW), Oregon Department of Fish and Wildlife (ODFW), and Washington Department of Fish and Wildlife (WDFW).

Management Areas

Management of the salmon fisheries is generally divided into two geographic areas: north of Cape Falcon (U.S./Canada border to Cape Falcon, OR) and south of Cape Falcon (Cape Falcon, OR, to the U.S./Mexico border). Within the north and south of Cape Falcon areas, there are further subarea divisions used to manage impacts on salmon stocks or stock groups as well as economic impacts to communities. The management areas affected by the inseason actions in this document are described here.

North of Cape Falcon: Recreational fisheries north of Cape Falcon are divided into four subareas: U.S./Canada border to Cape Alava, WA (Neah Bay subarea), Cape Alava, WA, to Queets River, WA (La Push subarea), Queets River, WA, to Leadbetter Point, WA (Westport subarea), and Leadbetter Point, WA, to Cape Falcon, OR (Columbia River subarea). Commercial fisheries north of Cape Falcon are divided at Queets River, WA, and Leadbetter Point, WA.

South of Cape Falcon: South of Cape Falcon, the area from Humbug Mountain, OR, to Horse Mountain, CA, is the Klamath Management Zone (KMZ) and is managed in two subareas, Oregon KMZ and California KMZ, divided at the Oregon/California border. The Oregon KMZ is the area from Humbug Mountain, OR, to the Oregon/California border. The California KMZ is the area from the Oregon/California border to Horse Mountain, CA. However, the area from Humboldt South Jetty, CA, to Horse Mountain, CA, has been closed to commercial salmon fishing since 1992.

Inseason Actions

Inseason Action #12

Description of the action: Inseason action #12 adjusted the daily bag limit in the recreational salmon fishery in the Neah Bay subarea to allow retention of two Chinook salmon. Previously, the two salmon per day bag limit in this fishery allowed retention of only one Chinook salmon.

Effective dates: Inseason action #12 took effect on July 14, 2018, and remained in effect until the recreational fishery in the Neah Bay subarea closed for the season under inseason action #24 on August 12, 2018.

Reason and authorization for the action: The purpose of this action was to allow greater access to the available Chinook salmon quota in the recreational fishery. The NMFS West Coast Regional Administrator (RA) considered Chinook and coho salmon landings and fishery effort in the Neah Bay subarea and determined that this inseason action was necessary to meet management objectives set preseason. Inseason modification of recreational bag limits is authorized by 50 CFR 660.409(b)(1)(iii).

Consultation date and participants: Consultation on inseason action #12 occurred on July 12, 2018. Representatives from NMFS, WDFW, ODFW, and the Council participated in this consultation.

Inseason Action #13

Description of the action: Inseason action #13 suspended retention of Pacific halibut caught incidental to the commercial salmon fishery from the U.S./Canada border to the U.S./Mexico border.

Effective dates: Inseason action #13 took effect at 11:59 p.m., July 14, 2018, and remained in effect until superseded by inseason action #15 on July 26, 2018.

Reason and authorization for the action: The purpose of this action was to avoid exceeding the allocation of Pacific halibut allowed to be retained in the commercial salmon fishery. The RA considered Chinook salmon and Pacific halibut landings and fishery effort in the commercial salmon fishery and determined that the fishery was at risk of exceeding the allocation of Pacific halibut if retention continued at the current rate. Retention of Pacific halibut was suspended by inseason action to allow the states to update landings data and determine the amount of Pacific halibut allocation that remained. The annual management measures require NMFS to take inseason action to prohibit retention of Pacific halibut in the commercial salmon fishery if the landings are projected to exceed the preseason allocation (83 FR 19005, May 1, 2018). Modification of the species that may be caught and landed during specific seasons is authorized by 50 CFR 660.409(b)(1)(ii).

Consultation date and participants: Consultation on inseason action #13 occurred on July 13, 2018. Representatives from NMFS, WDFW, ODFW, CDFW, and the Council participated in this consultation.

Inseason Action #14

Description of the action: Inseason action #14 adjusted the landing and possession limit for the commercial salmon fishery in the California KMZ from 20 Chinook salmon per day to 40 Chinook salmon per day.

Effective dates: Inseason action #14 took effect on July 20, 2018 and remained in effect through July 31, 2013.

Reason and authorization for the action: The purpose of inseason action #14 was to allow greater access to available Chinook salmon quota for July in the commercial salmon fishery in the California KMZ; this fishery had monthly Chinook salmon quotas from May through August in 2018. The RA considered Chinook salmon landings and fishery effort and determined that inseason action was necessary to meet management objectives set preseason. Inseason action to modify limited retention regulations is authorized by 50 CFR 660.409(b)(1)(ii).

Consultation date and participants: Consultation on inseason action #14 occurred on July 17, 2018. Representatives from NMFS, ODFW, CDFW, and the Council participated in this consultation.

Inseason Action #15

Description of the action: Inseason action #15 allowed retention of Pacific halibut caught incidental to the commercial salmon fishery to resume from the U.S./Canada border to the U.S./Mexico border with revised landing and possession limits of no more than one Pacific halibut per each three Chinook salmon, except one Pacific halibut could be possessed or landed without meeting the ratio requirement, and no more than 10 halibut could be possessed or landed per trip.

Effective dates: Inseason action #15 took effect on July 26, 2018, superseding inseason action #13, above. Inseason action #15 remained in effect until superseded by inseason action #22 on August 8, 2018.

Reason and authorization for the action: The purpose of inseason action #15 was to allow access to the remaining allocation of Pacific halibut without exceeding the allocation. The RA considered Pacific halibut and Chinook salmon landings to date and fishery effort and determined that inseason action was needed to meet management objectives set preseason. Modification of the species that may be caught and landed during specific seasons is authorized by 50 CFR 660.409(b)(1)(ii).

Consultation date and participants: Consultation on inseason action #15 occurred on July 24, 2018. Representatives from NMFS, WDFW, ODFW, CDFW, and the Council participated in this consultation.

Inseason Action #16

Description of the action: Inseason action #16 adjusted the landing and possession limit in the commercial salmon fishery in the areas from the U.S./Canada border to Queets River, WA, and from Leadbetter Point, WA, to Cape Falcon, OR, from 50 to 75 Chinook salmon per vessel per landing week.

Effective dates: Inseason action #16 took effect on July 26, 2018, and remained in effect until superseded by inseason action #18 on August 2, 2018, which affected the area from the U.S./Canada border to Queets River, and inseason action #31 on August 23, 2018, which affected the area from Leadbetter Point, OR to Cape Falcon, OR.

Reason and authorization for the action: The purpose of inseason action #16 was to allow greater access to available Chinook salmon quota in the commercial salmon fishery. The RA considered Chinook salmon landings to date and fishery effort and determined that inseason action was necessary to meet management objectives set preseason. Inseason action to modify limited retention regulations is authorized by 50 CFR 660.409(b)(1)(ii).

Consultation date and participants: Consultation on inseason action #16 occurred on July 24, 2018. Representatives from NMFS, WDFW, ODFW, and the Council participated in this consultation.

Inseason Action #17

Description of the action: Inseason action #17 transferred quota of 1,000 coho from the commercial salmon fishery in the area north of Cape Falcon, OR, to the recreational fishery in the Neah Bay subarea. This action included the provision that, when the recreational fishery in the Neah Bay subarea closed for the season, any remaining Chinook quota from that fishery would be transferred to the commercial fishery on an impact-neutral basis to complete the trade (see inseason action #28, below).

Effective dates: Inseason action #17 took effect on July 24, 2018, and remained in effect through August 12, 2018, when the recreational fishery in the Neah Bay subarea closed for the season under inseason action #24.

Reason and authorization for the action: The purpose of inseason action #17 was to prolong the recreational salmon season in Neah Bay, which was scheduled preseason to remain open until September 3, 2018, and to utilize available coho and Chinook salmon quota. The RA considered Chinook salmon and coho landings to date and fishery effort and determined that inseason was necessary to keep the recreational fishery in Neah Bay open and meet management objectives set preseason. Inseason trades and transfers of quota between commercial and recreational fisheries north of Cape Falcon, OR, are authorized by 50 CFR 660.408(d)(1)(vi). Inseason action to modify quotas or fishing seasons is authorized by 50 CFR 660.409(b)(1)(i).

Consultation date and participants: Consultation on inseason action #17 occurred on July 24, 2018. Representatives from NMFS, WDFW, ODFW, and the Council participated in this consultation.

Inseason Action #18

Description of the action: Inseason action #18 adjusted the landing and possession limit in the commercial salmon fishery in the area from the U.S./Canada border to Queets River, WA, from 75 to 50 Chinook salmon per vessel per landing week.

Effective dates: Inseason action #18 took effect August 2, 2018, and remained in effect until superseded by inseason action #30 on August 23, 2018.

Reason and authorization for the action: The purpose of the proposed action was to keep commercial Chinook salmon landings in the affected area within the quota set preseason. The RA considered Chinook salmon landings to date and fishery effort and determined that inseason action was necessary to meet management objectives set preseason. Inseason action to modify limited retention regulations is authorized by 50 CFR 660.409(b)(1)(ii).

Consultation date and participants: Consultation on inseason action #18 occurred on August 1, 2018. Representatives from NMFS, WDFW, ODFW, and the Council participated in this consultation.

Inseason Action #19

Description of the action: Inseason action #19 adjusted the August quota in the commercial salmon fishery in the California KMZ to account for an impact-neutral rollover of unused July quota. The August quota was adjusted from 4,000 Chinook salmon to 9,423 Chinook salmon.

Effective dates: Inseason action #19 took effect on August 2, 2018, and remained in effect through August 31, 2018.

Reason and authorization for the action: The purpose of inseason action #19 was to be consistent with the annual management measures, which state that any remaining portion of a monthly Chinook salmon quota in the commercial salmon fishery in the California KMZ may be transferred inseason on an impact-neutral basis to the next open quota period (83 FR 19005, May 1, 2018). The RA considered Chinook salmon landings to date and the calculations of the Council's Salmon Technical Team (STT) for rolling over quota on an impact-neutral basis for impacts to Sacramento and Klamath River fall-run Chinook salmon stocks, and fifty-fifty tribal/nontribal sharing of Klamath River fall-run Chinook salmon allowable catch. The RA determined inseason action was necessary to meet management objectives set preseason. Inseason action to modify quotas is authorized by 50 CFR 660.409(b)(1)(i).

Consultation date and participants: Consultation on inseason action #19 occurred on August 2, 2018. Representatives from NMFS, CDFW, ODFW, and the Council participated in this consultation.

Inseason Action #20

Description of the action: Inseason action #20 adjusted the landing and possession limit in the commercial salmon fishery in the California KMZ from 20 to 50 Chinook per vessel per day.

Effective dates: Inseason action #20 took effect August 3, 2018, and remained in effect through the end of the season on August 31, 2018.

Reason and authorization for the action: The purpose of inseason action #20 was to provide greater access to available quota. The RA considered catch of Chinook salmon to date and fishery effort, as well as the available quota and limited remaining time for the fishery, which was scheduled to close at the end of August, and determined that inseason action was necessary to meet management objectives set preseason. Inseason action to modify limited retention regulations is authorized by 50 CFR 660.409(b)(1)(ii).

Consultation date and participants: Consultation on inseason action #20 occurred on August 2, 2018. Representatives from NMFS, CDFW, ODFW, and the Council participated in this consultation.

Inseason Action #21

Description of the action: Inseason action #21 adjusted the August quota in the commercial salmon fishery in the Oregon KMZ to account for an impact-neutral rollover of unused July quota. The August quota was adjusted from 500 Chinook salmon to 1,430 Chinook salmon.

Effective dates: Inseason action #21 took effect on August 2, 2018, and remained in effect through the end of the season on August 29, 2018.

Reason and authorization for the action: The purpose of inseason action #21 was to be consistent with the annual management measures, which state that any remaining portion of a monthly Chinook salmon quota in the commercial salmon fishery in the Oregon KMZ may be transferred inseason on an impact neutral basis to the next open quota period (83 FR 19005, May 1, 2018). The RA considered Chinook salmon landings to date and the calculations of the Council's Salmon Technical Team (STT) for rolling over quota on an impact-neutral basis for impacts to Sacramento and Klamath River fall-run Chinook salmon stocks, and fifty-fifty tribal/nontribal sharing of Klamath River fall-run Chinook salmon allowable catch. The RA determined inseason action was necessary to meet management objectives set preseason. Inseason action to modify quotas is authorized by 50 CFR 660.409(b)(1)(i).

Consultation date and participants: Consultation on inseason action #20 occurred on August 2, 2018. Representatives from NMFS, CDFW, ODFW, and the Council participated in this consultation.

Inseason Action #22

Description of the action: Inseason action #22 closed retention of Pacific halibut caught incidental to the commercial salmon fishery from the U.S./Canada border to the U.S./Mexico border.

Effective dates: Inseason action #22 took effect on August 8, 2018 and remains in effect until all commercial salmon fisheries conclude for 2018.

Reason and authorization for the action: The purpose of inseason action #22 was to prevent exceeding the 2018 allocation of Pacific halibut to the commercial salmon fishery. The RA considered Pacific halibut and salmon landings to date and fishery effort and determined that there was insufficient Pacific halibut allocation remaining to allow retention to continue and inseason action was required to avoid exceeding the Pacific halibut allocation. The annual management measures require NMFS to take inseason action to prohibit retention of Pacific halibut in the commercial salmon fishery if the landings are projected to exceed the preseason allocation (83 FR 19005, May 1, 2018).

Consultation date and participants: Consultation on inseason action #22 occurred on August 8, 2018. Representatives from NMFS, WDFW, ODFW, and the Council participated in this consultation. NMFS notified CDFW of the action immediately after the consultation.

Inseason Action #23

Description of the action: Inseason action #23 transferred 3,000 coho quota to the recreational salmon fishery in the Columbia River subarea. The coho quota transferred comprised 2,400 coho quota from the commercial salmon fishery in the area north of Cape Falcon, OR, and 600 coho quota from the recreational salmon fishery in the Westport subarea.

Effective dates: Inseason action #23 took effect on August 8, 2018, and remained in effect until reversed by inseason action #27 on August 23, 2018.

Reason and authorization for the action: The purpose of inseason action #23 was to prolong the Columbia River subarea recreational salmon fishery, which was scheduled to remain open through September 3, 2018, but which was exhausting its coho quota. The RA considered coho and Chinook salmon landings to date and fishery effort and determined that inseason action was necessary to meet the management objectives set preseason. Inseason trades and transfers of quota between commercial and recreational fisheries north of Cape Falcon, OR, are authorized by 50 CFR 660.408(d)(1)(vi). Inseason action to modify quotas is authorized by 50 CFR 660.409(b)(1)(i).

Consultation date and participants: Consultation on inseason action #23 occurred on August 8, 2018. Representatives from NMFS, WDFW, ODFW, and the Council participated in this consultation.

Inseason Action #24

Description of the action: Inseason action #24 closed the recreational salmon fishery in the Neah Bay subarea.

Effective dates: Inseason action #24 took effect on August 12, 2018, and remained in effect through the end of the 2018 ocean salmon season.

Reason and authorization for the action: The purpose inseason action #24 was to prevent exceeding the subarea quota for coho. The RA considered coho and Chinook salmon landings and fishery effort and determined that inseason action was necessary to close the fishery ahead of the scheduled date of September 3, 2018, to avoid exceeding the coho quota for the subarea. Inseason action to modify fishing seasons is authorized by 50 CFR 660.409(b)(1)(i).

Consultation date and participants: Consultation on inseason action #24 occurred on August 8, 2018. Representatives from NMFS, WDFW, ODFW, and the Council participated in this consultation.

Inseason Action #25

Description of the action: Inseason action #25 closed the recreational salmon fishery in the Columbia River subarea.

Effective dates: Inseason action #25 took effect on August 12, 2018, and remained in effect until superseded by inseason action #34 on September 2, 2018.

Reason and authorization for the action: The purpose inseason action #25 was to prevent exceeding the subarea quota for coho. The RA considered coho and Chinook salmon landings and fishery effort and determined that inseason action was necessary to close the fishery ahead of the scheduled date of September 3, 2018, to avoid exceeding the coho quota for the subarea. Inseason action to modify fishing seasons is authorized by 50 CFR 660.409(b)(1)(i).

Consultation date and participants: Consultation on inseason action #25 occurred on August 8, 2018. Representatives from NMFS, WDFW, ODFW, and the Council participated in this consultation.

Inseason Action #26

Description of the action: Inseason action #26 adjusted the landing and possession limit in the commercial salmon fishery in the Oregon KMZ from 50 to 80 Chinook salmon per vessel per landing week.

Effective dates: Inseason action #26 took effect on August 13, 2018, and remained in effect until the fishery closed on August 29, 2018.

Reason and authorization for the action: The purpose of inseason action #26 was to provide greater access to available Chinook salmon quota. The RA considered Chinook salmon landings to date and fishing effort and determined that inseason action was necessary to meet management goals set preseason. Inseason action to modify limited retention regulations is authorized by 50 CFR 660.409(b)(1)(ii).

Consultation date and participants: Consultation on inseason action #26 occurred on August 9, 2018. Representatives from NMFS, ODFW, CDFW, and the Council participated in this consultation.

Inseason Action #27

Description of the action: Inseason action #27 reversed the transfer of coho quota to the recreational salmon fishery in the Columbia River subarea that was implemented under inseason action #23. The coho quota was returned, without adjustment, as follows: 2,400 coho quota to the commercial salmon fishery in the area north of Cape Falcon, OR, and 600 coho quota to the recreational salmon fishery in the Westport subarea.

Effective dates: Inseason action #27 took effect on August 23, 2018, and remained in effect until superseded by inseason action #32 on August 30, 2018.

Reason and authorization for the action: The purpose of inseason action #27 was to reverse the transfer of coho quota that was implemented under inseason action #23. The recreational fishery in the Columbia River subarea closed on August 12, 2018, with an estimated remaining coho quota of 3,558. The RA considered coho landings to date and determined that none of the 2,400 coho quota previously transferred under inseason action #23 was landed in the recreational fishery in the Columbia River subarea prior to the closure of that fishery and that inseason action to return the quota to the fisheries from which it was transferred it was warranted. Inseason trades and transfers of quota between commercial and recreational fisheries north of Cape Falcon, OR, are authorized by 50 CFR 660.408(d)(1)(vi). Inseason action to modify quotas is authorized by 50 CFR 660.409(b)(1)(i).

Consultation date and participants: Consultation on inseason action #27 occurred on August 23, 2018. Representatives from NMFS, WDFW, ODFW, and the Council participated in this consultation.

Inseason Action #28

Description of the action: Inseason action #28 transferred the remaining Chinook salmon guideline (1,876 Chinook salmon) from the recreational salmon fishery in the Neah Bay subarea, which closed August 12, 2018, under inseason action #24, to the commercial fishery in the area from the U.S./Canada border to the Queets River, WA, to complete the trade agreed to under inseason action #17.

Effective dates: Inseason action #28 took effect on August 23, 2018, and remained in effect until the commercial salmon fisheries north of Cape Falcon, OR, closed on September 19, 2018.

Reason and authorization for the action: The purpose of inseason action #28 was to fulfill the quota trade agreement between the commercial and recreational salmon fisheries that began with inseason action #17. Under that trade agreement, the commercial salmon fishery traded 1,000 coho to the recreational salmon fishery in the Neah Bay subarea with the understanding that, when the Neah Bay recreational fishery closed for the season, any remaining Chinook salmon would be transferred to the commercial fishery. The RA considered the Chinook salmon landings in the recreational salmon fishery in the Neah Bay subarea and determined that the transfer was consistent with the decision made under inseason action #17. Inseason trades and transfers of quota between commercial and recreational fisheries north of Cape Falcon, OR, are authorized by 50 CFR 660.408(d)(1)(vi). Inseason action to modify quotas is authorized by 50 CFR 660.409(b)(1)(i).

Consultation date and participants: Consultation on inseason action #28 occurred on August 23, 2018. Representatives from NMFS, WDFW, ODFW, and the Council participated in this consultation.

Inseason Action #29

Description of the action: Inseason action #29 adjusted the recreational salmon fishery in the Westport subarea to be open seven days per week (previously, it was open Sunday through Thursday) with a daily bag limit of two salmon, both of which can be Chinook salmon (previously, the daily bag limit was two salmon, only one of which could be a Chinook salmon).

Effective dates: Inseason action #29 took effect on August 24, 2018, and remained in effect until the fishery closed on September 3, 2018.

Reason and authorization for the action: The purpose of inseason action #29 was to allow greater access to available quota. The RA considered Chinook salmon and coho landings to date and fishery effort and determined inseason action to allow more fishing opportunity to access available quota was warranted to meet management objectives set preseason. Inseason action to modify recreational bag limits and fishing days per calendar week is authorized by 50 CFR 660.409(b)(1)(iii).

Consultation date and participants: Consultation on inseason action #29 occurred on August 23, 2018. Representatives from NMFS, WDFW, ODFW, and the Council participated in this consultation.

Inseason Action #30

Description of the action: Inseason action #30 adjusted the landing and possession limit in the commercial salmon fishery from the U.S./Canada border to the Queets River, WA, from 50 to 85 Chinook salmon per vessel per landing week.

Effective dates: Inseason action #30 superseded inseason action #18 on August 23, 2018, and remained in effect until the fishery closed on September 19, 2018.

Reason and authorization for the action: The purpose of inseason action #30 was to allow greater access to available Chinook salmon quota. The RA considered coho and Chinook landings and fishery effort and determined that inseason action to increase the landing and possession limit in the fishery was warranted to meet management objectives set preseason. Inseason action to modify limited retention regulations is authorized by 50 CFR 660.409(b)(1)(ii).

Consultation date and participants: Consultation on inseason action #30 occurred on August 23, 2018. Representatives from NMFS, WDFW, ODFW, and the Council participated in this consultation.

Inseason Action #31

Description of the action: Inseason action #31 adjusted the landing and possession limit in the commercial salmon fishery from Leadbetter Point, WA to Cape Falcon, OR, from 75 to 85 Chinook salmon per vessel per landing week.

Effective dates: Inseason action #31 superseded inseason action #16 on August 23, 2018, and remained in effect until the fishery closed on September 19, 2018.

Reason and authorization for the action: The purpose of inseason action #31 was to allow greater access to available Chinook salmon quota. The RA considered coho and Chinook landings and fishery effort and determined that inseason action to increase the landing and possession limit in the fishery was warranted to meet management objectives set preseason. Inseason action to modify limited retention regulations is authorized by 50 CFR 660.409(b)(1)(ii).

Consultation date and participants: Consultation on inseason action #31 occurred on August 23, 2018. Representatives from NMFS, WDFW, ODFW, and the Council participated in this consultation.

Inseason Action #32

Description of the action: Inseason action #32 transferred 2,400 coho quota from the commercial salmon fishery in the area north of Cape Falcon to the recreational salmon fishery in the Columbia River subarea.

Effective dates: Inseason action #32 took effect on August 30, 2018, and remained in effect until reversed under inseason action #36 on September 12, 2018.

Reason and authorization for the action: The purpose of inseason action #32 was to provide ample coho quota to support re-opening the recreational fishery in the Columbia River subarea during the Labor Day holiday weekend (see inseason action #34, below). Considering coho and Chinook salmon landings to date in the commercial and recreational fisheries and fishery effort, the RA determined that inseason action to transfer available coho quota from the commercial fishery to the recreational fishery was warranted to support the economic benefit of the fishery dependent community in the Columbia River subarea and consistent with management goals set preseason. Inseason trades and transfers of quota between commercial and recreational fisheries north of Cape Falcon, OR, are authorized by 50 CFR 660.408(d)(1)(vi). Inseason action to modify quotas is authorized by 50 CFR 660.409(b)(1)(i).

Consultation date and participants: Consultation on inseason action #32 occurred on August 30, 2018. Representatives from NMFS, WDFW, ODFW, and the Council participated in this consultation.

Inseason Action #33

Description of the action: Inseason action #33 adjusted the landing and possession limit in the commercial salmon fishery north of Cape Falcon, OR, from 10 to 25 coho, marked with a healed adipose fin clip, per vessel per landing week.

Effective dates: Inseason action #33 took effect August 30, 2018, and remained in effect until the fishery closed on September 19, 2018.

Reason and authorization for the action: The purpose of inseason action #33 was to allow greater access to available coho quota. Considering coho and Chinook salmon landings and fishery effort, the RA determined that inseason action to increase the landing and possession limit in the fishery was warranted to meet management objectives set preseason. Inseason action to modify limited retention regulations is authorized by 50 CFR 660.409(b)(1)(ii).

Consultation date and participants: Consultation on inseason action #33 occurred on August 30, 2018. Representatives from NMFS, WDFW, ODFW, and the Council participated in this consultation.

Inseason Action #34

Description of the action: Inseason action #34 reopened the recreational salmon fishery in the Columbia River subarea from September 2, 2018 through September 3, 2018.

Effective dates: Inseason action #34 superseded inseason action #25 on September 2, 2018, and remained in effect through September 3, 2018, the closing date of the 2018 recreational salmon fishery north of Cape Falcon, Oregon.

Reason and authorization for the action: The purpose of inseason action #34 was to provide recreational fishing opportunity in the Columbia River subarea during the Labor Day holiday weekend. As described under inseason action #32, above, the RA considered landings to date, fishery effort, and available quota, and determined that inseason action to re-open the recreational fishery in the Columbia River subarea was warranted to provide economic benefit and to be consistent with management objectives set preseason. Inseason trades and transfers of quota between commercial and recreational fisheries north of Cape Falcon, OR, are authorized by 50 CFR 660.408(d)(1)(vi). Inseason action to modify quotas is authorized by 50 CFR 660.409(b)(1)(i).

Consultation date and participants: Consultation on inseason action #34 occurred on August 30, 2018. Representatives from NMFS, WDFW, ODFW, and the Council participated in this consultation.

Inseason Action #35

Description of the action: Inseason action #35 rolled over remaining coho quota from the recreational mark-selective coho fishery in the area from Cape Falcon, OR, to Humbug Mountain, OR, to the recreational non-mark-selective coho fishery on an impact-neutral basis. This action adjusted the quota in the non-mark-selective coho fishery from 3,500 to 7,600 coho.

Effective dates: Inseason action #35 took effect on September 12, 2018, and remained in effect until the fishery was closed by inseason action #37 on September 21, 2018.

Reason and authorization for the action: The purpose of inseason action was to provide access to available coho quota. The annual management measures (83 FR 19005, May 1, 2018) state that marked coho remaining from the Cape Falcon, OR, to Humbug Mountain, OR, recreational mark-selective coho quota may be transferred inseason to the Cape Falcon, OR, to Humbug Mountain, OR, non-mark-selective recreational fishery if the transfer would not result in exceeding preseason impact expectations on any stocks. The RA considered coho landings and the STT's calculations for the impact-neutral roll-over and determined that inseason action to roll over the coho quota between these fisheries was warranted to meet management objectives set preseason.

Consultation date and participants: Consultation on inseason action #35 occurred on September 12, 2018. Representatives from NMFS, WDFW, ODFW, and the Council participated in this consultation.

Inseason Action #36

Description of the action: Inseason action #36 reversed the transfer of coho quota to the recreational salmon fishery in the Columbia River subarea that was implemented under inseason action #32. The 2,400 coho quota was returned to the commercial salmon fishery in the area north of Cape Falcon, OR, without adjustment.

Effective dates: Inseason action #36 took effect on September 12, 2018, and remained in effect until the commercial salmon fishery north of Cape Falcon, OR, closed on September 19, 2018, as scheduled preseason.

Reason and authorization for the action: The purpose of inseason action #36 was to reverse the transfer of coho quota that was implemented under inseason action #32. The recreational fishery in the Columbia River subarea closed on September 3, 2018, with an estimated remaining coho quota of 2,854. The RA considered coho landings to date and determined that none of the 2,400 coho quota previously transferred under inseason action #32 was landed in the recreational fishery in the Columbia River subarea prior to the closure of that fishery on September 3, 2018, and that inseason action to return the quota to the fisheries from which it was transferred it was warranted. Inseason trades and transfers of quota between commercial and recreational fisheries north of Cape Falcon, OR, are authorized by 50 CFR 660.408(d)(1)(vi). Inseason action to modify quotas is authorized by 50 CFR 660.409(b)(1)(i).

Consultation date and participants: Consultation on inseason action #36 occurred on September 12, 2018. Representatives from NMFS, WDFW, ODFW, and the Council participated in this consultation.

Inseason Action #37

Description of the action: Inseason action #37 closed the recreational non-mark-selective coho salmon fishery from Cape Falcon, OR, to Humbug Mountain, OR, due to projected attainment of the available coho quota.

Effective dates: Inseason action #37 took effect on September 21, 2018, and remained in effect through the end of the salmon fishing season.

Reason and authorization for the action: The purpose of inseason action #37 was to prevent exceeding the coho quota in the fishery. The RA considered coho landings and remaining quota and determined inseason action was necessary to stay within the adjusted coho quota. Inseason action to modify fishing seasons is authorized by 50 CFR 660.409(b)(1)(i).

Consultation date and participants: Consultation on inseason action #37 occurred on September 19, 2018. Representatives from NMFS, ODFW, and the Council participated in this consultation.

All other restrictions and regulations remain in effect as announced for the 2018 ocean salmon fisheries and 2019 salmon fisheries opening prior to May 1, 2019 (83 FR 19005, May 1, 2018), and as modified by prior inseason actions.

The RA determined that the best available information indicated that coho, Chinook salmon, and Pacific halibut abundance forecasts and expected fishery effort in 2018 supported the above inseason actions recommended by the states of Washington, Oregon, and California. The states manage the fisheries in state waters adjacent to the areas of the U.S. exclusive economic zone consistent with these federal actions. As provided by the inseason notice procedures of 50 CFR 660.411, actual notice of the described regulatory action was given, prior to the time the action was effective, by telephone hotline numbers 206-526-6667 and 800-662-9825, and by U.S. Coast Guard Notice to Mariners broadcasts on Channel 16 VHF-FM and 2182 kHz.

Classification

NOAA's Assistant Administrator (AA) for NMFS finds that good cause exists for this notification to be issued without affording prior notice and opportunity for public comment under 5 U.S.C. 553(b)(B) because such notification would be impracticable. As previously noted, actual notice of the regulatory action was provided to fishers through telephone hotline and radio notification. This action complies with the requirements of the annual management measures for ocean salmon fisheries (83 FR 19005, May 1, 2018), the Pacific Coast Salmon Fishery Management Plan (FMP), and regulations implementing the FMP under 50 CFR 660.409 and 660.411. Prior notice and opportunity for public comment was impracticable because NMFS and the state agencies had insufficient time to provide for prior notice and the opportunity for public comment between the time coho, Chinook salmon, and Pacific halibut catch and effort projections and abundance forecasts were developed and fisheries impacts were calculated, and the time the fishery modifications had to be implemented in order to ensure that fisheries are managed based on the best available scientific information, ensuring that conservation objectives and limits for impacts to salmon species listed under the Endangered Species Act are not exceeded. The AA also finds good cause to waive the 30-day delay in effectiveness required under 5 U.S.C. 553(d)(3), as a delay in effectiveness of this action would allow fishing at levels inconsistent with the goals of the FMP and the current management measures.

This action is authorized by 50 CFR 660.409 and 660.411 and is exempt from review under Executive Order 12866.

Authority: 16 U.S.C. 1801 et seq.

Dated: December 4, 2018.
Alan D. Risenhoover,
Director, Office of Sustainable Fisheries, National Marine Fisheries Service.

[FR Doc. 2018-26720 Filed 12-10-18; 8:45 am]

BILLING CODE 3510-22-P